PRESIDIO TRUST

Notice of Public Meeting

AGENCY: The Presidio Trust.

ACTION: Notice of Public Meeting.

SUMMARY: In accordance with § 103(c)(6) of the Presidio Trust Act, 16 U.S.C. 460bb appendix, and in accordance with the Presidio Trust's bylaws, notice is hereby given that a public meeting of the Presidio Trust Board of Directors will be held commencing 6:30 p.m. on Thursday, April 24, 2014, at the Observation Post, 211 Lincoln Boulevard, Presidio of San Francisco, California. The Presidio Trust was created by Congress in 1996 to manage approximately eighty percent of the former U.S. Army base known as the Presidio, in San Francisco, California.

The purposes of this meeting are to take action on the minutes of a previous Board meeting, to provide the Chairperson's report, to provide the Executive Director's report, to provide a remediation program update, to provide an Officers' Club update and take action on a related construction project, to provide a Presidio Gateway project update, and to receive public comment in accordance with the Trust's Public Outreach Policy. Individuals requiring special accommodation at this meeting, such as needing a sign language interpreter, should contact Mollie Matull at 415-561-5300 prior to April 17, 2014.

Time: The meeting will begin at 6:30 p.m. on Thursday, April 24, 2014.

ADDRESSES: The meeting will be held at the Observation Post, 211 Lincoln Boulevard, Presidio of San Francisco.

FOR FURTHER INFORMATION CONTACT: Karen Cook, General Counsel, the Presidio Trust, 103 Montgomery Street, P.O. Box 29052, San Francisco, California 94129-0052, Telephone: 415-561-5300.

Dated: March 27, 2014.
Karen A. Cook,
General Counsel.

[FR Doc. 2014-07436 Filed 4-2-14; 8:45 am]

BILLING CODE 4310-4R-P